DEPARTMENT OF COMMERCE

Foreign-Trade Zones Board

[B-65-2019]

Foreign-Trade Zone (FTZ) 26—Atlanta, Georgia; Notification of Proposed Production Activity; Ricoh Electronics, Inc. (Thermal Paper and Film); Lawrenceville and Buford, Georgia

Ricoh Electronics, Inc. (Ricoh) submitted a notification of proposed production activity to the FTZ Board for its facilities in Lawrenceville and Buford, Georgia. The notification conforming to the requirements of the regulations of the FTZ Board (15 CFR 400.22) was received on October 7, 2019.

Ricoh already has authority to produce copiers, printers, toner cartridges, related toner products, and thermal paper products within FTZ 26. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt Ricoh from customs duty payments on the foreign-status materials/components used in export production. On its domestic sales, for the foreign-status materials/components noted below and in the existing scope of authority, Ricoh would be able to choose the duty rates during customs entry procedures that apply to self-adhesive thermal film master roll, thermal film roll, self-adhesive thermal paper master roll, and thermal paper roll (duty rate ranges from duty-free to 5.8%). Ricoh would be able to avoid duty on foreign-status components which become scrap/waste. Customs duties also could possibly be deferred or reduced on foreign-status production equipment.

The materials/components sourced from abroad include: Silicon dioxide; calcium carbonate; aromatic ether; aromatic ether powder; adipic acid dihydrazide; organo-sulfur compound; synthetic organic coloring matter; organic surface-active agent; non-ionic surfactant; silicone defoamer; finishing agent for use as color stabilizer; polycarboxylate type surfactant; styrene butadiene copolymer latex; polyvinyl alcohol resin; polymethyl methacrylate; silicone; silicone powder; pearlized synthetic paper; and, film (duty rate ranges from duty-free to 6.5%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is December 2, 2019.

A copy of the notification will be available for public inspection in the “Reading Room” section of the Board's website, which is accessible via www.trade.gov/ftz.

For further information, contact Juanita Chen at juanita.chen@trade.gov or 202-482-1378.

Dated: October 16, 2019.
Andrew McGilvray,
Executive Secretary.

[FR Doc. 2019-22873 Filed 10-18-19; 8:45 am]

BILLING CODE 3510-DS-P